DEPARTMENT OF JUSTICE

Parole Commission

Public Announcement Pursuant to the Government in the Sunshine Act (Pub. L. 94-409) [5 U.S.C. Section 552b]

AGENCY HOLDING MEETING: Department of Justice, United States Parole Commission.

DATE AND TIME: 11:30 a.m., Thursday, September 9, 2010.

PLACE: U.S. Parole Commission, 5550 Friendship Boulevard, 4th Floor, Chevy Chase, Maryland 20815.

STATUS: Closed.

MATTERS CONSIDERED: The following matter will be considered during the closed meeting:

Consideration of four original jurisdiction cases pursuant to 28 CFR 2.27 Final recommendation on probationary period for hearing examiner.

AGENCY CONTACT: Patricia W. Moore, Staff Assistant to the Chairman, United States Parole Commission, (301) 492-5933.

DATES: September 3, 2010.

Rockne Chickinell,
General Counsel, U.S. Parole Commission.

[FR Doc. 2010-22689 Filed 9-8-10; 11:15 am]

BILLING CODE 4410-31-M